DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of seven entities whose property and interests in property have been blocked pursuant to the Foreign Narcotics Kingpin Designation Act (Kingpin Act) (21 U.S.C. 1901-1908, 8 U.S.C. 1182). Additionally, OFAC is publishing additions to the identifying information for five individuals and one entity previously designated pursuant to the Kingpin Act.

DATES: The designations by the Acting Director of OFAC of the seven entities identified in this notice pursuant to section 805(b) of the Kingpin Act are effective on April 4, 2016.

FOR FURTHER INFORMATION CONTACT: Assistant Director, Sanctions Compliance & Evaluation, Office of Foreign Assets Control, U.S. Department of the Treasury, Washington, DC 20220 Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On April 4, 2016, the Acting Director of OFAC designated the following seven entities whose property and interests in property are blocked pursuant to section 805(b) of the Kingpin Act.

Entities

1. AGRICOLA BOREAL S.P.R. DE R.L., Naciones Unidas Numero 6885-22, Colonia Jardines del Tule, Zapopan, Jalisco, Mexico; Folio Mercantil No. 60606 (Mexico) [SDNTK]. Designated for being owned, controlled, or directed by, or acting for or on behalf of, Jeniffer Beaney CAMACHO CAZARES, Diana Maria SANCHEZ CARLON, and/or Silvia Romina SANCHEZ CARLON and therefore meets the statutory criteria for designation pursuant to section 805(b)(3) of the Kingpin Act, 21 U.S.C. 1904(b)(3).

2. AGRICOLA TAVO S.P.R. DE R.L. (a.k.a. AGRICULTURA TAVO S.P.R. DE R.L.), Zapopan, Jalisco, Mexico; Folio Mercantil No. 59574 (Mexico) [SDNTK]. Designated for being controlled or directed by, or acting for or on behalf of, Diana Maria SANCHEZ CARLON and/or Silvia Romina SANCHEZ CARLON and therefore meets the statutory criteria for designation pursuant to section 805(b)(3) of the Kingpin Act, 21 U.S.C. 1904(b)(3).

3. ASESORES TURISTICOS S.A. DE C.V., Dr. Jose Maria Vertiz 646, Col. Narvarte, Mexico, DF 03010, Mexico; R.F.C. ATU8707108U5 (Mexico) [SDNTK]. Designated for being owned, controlled, or directed by, or acting for or on behalf of, Abigael GONZALEZ VALENCIA and therefore meets the statutory criteria for designation pursuant to section 805(b)(3) of the Kingpin Act, 21 U.S.C. 1904(b)(3).

4. DESARROLLO AGRICOLA ORGANICO S.P.R. DE R.L. (a.k.a. DESARROLLO AGRICULTURA ORGANICO, S.P.R. DE R.L.), Guadalajara, Jalisco, Mexico; Folio Mercantil No. 61497 (Mexico) [SDNTK]. Designated for being controlled or directed by, or acting for or on behalf of, Diana Maria SANCHEZ CARLON and/or Silvia Romina SANCHEZ CARLON and therefore meets the statutory criteria for designation pursuant to section 805(b)(3) of the Kingpin Act, 21 U.S.C. 1904(b)(3).

5. DESARROLLO AGRICOLA VERDE DE SAYULA S.P.R. DE R.L. (a.k.a. DESARROLLO AGRICULTURA VERDE DE SAYULA, S.P.R. DE R.L.), Guadalajara, Jalisco, Mexico; Folio Mercantil No. 61803 (Mexico) [SDNTK]. Designated for being controlled or directed by, or acting for or on behalf of, Diana Maria SANCHEZ CARLON and/or Silvia Romina SANCHEZ CARLON and therefore meets the statutory criteria for designation pursuant to section 805(b)(3) of the Kingpin Act, 21 U.S.C. 1904(b)(3).

6. STATUS ADMINISTRATIVO S. DE R.L. (a.k.a. STATUS ADMINISTRATIVO S. DE R.L. DE C.V.), Sao Paulo 2435, Guadalajara, Jalisco 44630, Mexico; Carretera A Barra De Navidad, Tomatlan, Jalisco 48460, Mexico; Playon de Mismaloya S/N Cruz de Loreto, Tomatlan Costalegre, Jalisco C.P. 48460, Mexico; Folio Mercantil No. 53243 (Mexico) [SDNTK]. Designated for being controlled or directed by, or acting for or on behalf of, Fernando TORRES GONZALEZ and therefore meets the statutory criteria for designation pursuant to section 805(b)(3) of the Kingpin Act, 21 U.S.C. 1904(b)(3).

7. STEP LATINAMEDICA S.A. DE C.V., Av. Americas 1501, Piso 20 Punto Sao Paulo, Col. Providencia, Guadalajara, Jalisco C.P. 44630, Mexico; Jose Maria Coss 1522-B, Col. Miraflores, Guadalajara, Jalisco C.P. 44260, Mexico; Web site http://www.steplatinamedica.com; alt. Web site http://steplamed.com; R.F.C. SLA 111221 6P7 (Mexico) [SDNTK]. Designated for being controlled or directed by, or acting for or on behalf of, Diana Maria SANCHEZ CARLON and therefore meets the statutory criteria for designation pursuant to section 805(b)(3) of the Kingpin Act, 21 U.S.C. 1904(b)(3).

Additionally, OFAC is publishing additions to the identifying information for the following individuals and entity previously designated pursuant to the Kingpin Act.

Individuals

1. CAMACHO CAZARES, Jeniffer Beaney (a.k.a. CAMACHO CAZARES, Jennifer Beaney; a.k.a. CAMACHO CAZAREZ, Jeniffer Beaney), Sendero De Los Olmos 110, Zapopan, Jalisco 45129, Mexico; 4850 ch de la Cote-Saint-Luc, Montreal, Quebec H3W 2H2, Canada; DOB 01 Feb 1979; POB Ahome, Sinaloa, Mexico; C.U.R.P. CACJ790201MSLMZN03 (Mexico) (individual) [SDNTK] (Linked To: AG & CARLON, S.A. DE C.V.; Linked To: GRUPO DIJEMA, S.A. DE C.V.).

2. GONZALEZ VALENCIA, Abigael (a.k.a. GOMEZ FLORES, Luis Angel; a.k.a. GONZALEZ VALENCIA, Abigail; a.k.a. GONZALEZ VALENCIA, Luis Angel; a.k.a. TAK TOLEDO, Jonathan Paul; a.k.a. TAK TOLEDO, Paul Jonathan), Paseo Royal Country 5395-31, Fraccionamiento Royal Country, Zapopan, Jalisco, Mexico; DOB 18 Oct 1972; alt. DOB 28 Oct 1979; POB Aguililla, Michoacan, Mexico; alt. POB Apatzingan, Michoacan, Mexico; alt. POB Guadalajara, Jalisco, Mexico; Gender Male; C.U.R.P. GOVA721018HMNNLB07 (Mexico); alt. C.U.R.P. GOFL721018HJCMLS02 (Mexico); alt. C.U.R.P. GOVL721018HMNNLS08 (Mexico); Passport JX755855 (Canada) (individual) [SDNTK] (Linked To: LOS CUINIS; Linked To: VALGO GRUPO DE INVERSION S.A. DE C.V.).

3. SANCHEZ CARLON, Diana Maria, Calle Ricardo Palma 2814, Colonia Prados Providencia, Guadalajara, Jalisco, Mexico; DOB 11 Feb 1979; POB Ahome, Sinaloa, Mexico; R.F.C. SACD-790211-KC2 (Mexico); C.U.R.P. SACD790211MSLNRN04 (Mexico) (individual) [SDNTK] (Linked To: AG & CARLON, S.A. DE C.V.; Linked To: AHOME REAL ESTATE, S.A. DE C.V.; Linked To: GRUPO DIJEMA, S.A. DE C.V.; Linked To: CONSULTORIA INTEGRAL LA FUENTE, SOCIEDAD CIVIL).

4. SANCHEZ CARLON, Silvia Romina, Calle Alberta No. 2166, Fraccionamiento Los Colomos, Guadalajara, Jalisco, Mexico; Av. Balam Kanche Mza. 30, Lote 002, Condominio Playa Car Fase II, Playa del Carmen, Quintana Roo 77710, Mexico; DOB 22 Dec 1986; POB Ahome, Sinaloa, Mexico; R.F.C. SACS-861222-PH0 (Mexico); C.U.R.P. SACS861222MSLNRL04 (Mexico) (individual) [SDNTK] (Linked To: AHOME REAL ESTATE, S.A. DE C.V.; Linked To: CONSULTORIA INTEGRAL LA FUENTE, SOCIEDAD CIVIL; Linked To: INTERCORP LEGOCA, S.A. DE C.V.; Linked To: LA FIRMA MIRANDA, S.A. DE C.V.; Linked To: XAMAN HA CENTER).

5. TORRES GONZALEZ, Fernando, Blvd. Puerta de Hierro # 5210, Piso 8-C, Puerta de Hierro, Zapopan, Jalisco 45116, Mexico; Calle Aldama 548, Interior 3, Tepatitlan de Morelos, Jalisco, Mexico; Calle Guadalupe 676, Fraccionamiento Guadalupe, Tepatitlan de Morelos, Jalisco, Mexico; Guayaquil numero 2600, Colonia Providencia, Guadalajara, Jalisco, Mexico; DOB 04 Jul 1970; POB Tepatitlan de Morelos, Jalisco, Mexico; C.U.R.P. TOGF700704HJCRNR06 (Mexico) (individual) [SDNTK] (Linked To: CIRCULO COMERCIAL TOTAL DE PRODUCTOS, S.A. DE C.V.; Linked To: HD COLLECTION, S.A. DE C.V.; Linked To: HOTELITO DESCONOCIDO; Linked To: W&G ARQUITECTOS, S.A. DE C.V.).

Entity

1. W&G ARQUITECTOS, S.A. DE C.V., 16 de Septiembre No. 21, Col. Manuel Avila Camacho, Naucalpan, Edo. de Mex., Mexico; R.F.C. WAR050401H27 (Mexico) [SDNTK].

The listings for these individuals and entity now appear as follows.

Individuals

1. CAMACHO CAZARES, Jeniffer Beaney (a.k.a. CAMACHO CAZARES, Jennifer Beaney; a.k.a. CAMACHO CAZAREZ, Jeniffer Beaney), Sendero De Los Olmos 110, Zapopan, Jalisco 45129, Mexico; 4850 ch de la Cote-Saint-Luc, Montreal, Quebec H3W 2H2, Canada; Calle 12 de Diciembre #480, Colonia Chapalita, Zapopan, Jalisco, Mexico; DOB 01 Feb 1979; POB Ahome, Sinaloa, Mexico; C.U.R.P. CACJ790201MSLMZN03 (Mexico) (individual) [SDNTK] (Linked To: AG & CARLON, S.A. DE C.V.; Linked To: GRUPO DIJEMA, S.A. DE C.V.; Linked To: AGRICOLA BOREAL S.P.R. DE R.L.).

2. GONZALEZ VALENCIA, Abigael (a.k.a. GOMEZ FLORES, Luis Angel; a.k.a. GONZALEZ VALENCIA, Abigail; a.k.a. GONZALEZ VALENCIA, Luis Angel; a.k.a. TAK TOLEDO, Jonathan Paul; a.k.a. TAK TOLEDO, Paul Jonathan), Paseo Royal Country 5395-31, Fraccionamiento Royal Country, Zapopan, Jalisco, Mexico; Boulevard Puerta de Hierro 5687, Fraccionamiento Puerta de Hierro, Zapopan, Jalisco, Mexico; DOB 18 Oct 1972; alt. DOB 28 Oct 1979; POB Aguililla, Michoacan, Mexico; alt. POB Guadalajara, Jalisco, Mexico; alt. POB Apatzingan, Michoacan, Mexico; Gender Male; Passport JX755855 (Canada); C.U.R.P. GOVA721018HMNNLB07 (Mexico); alt. C.U.R.P. GOFL721018HJCMLS02 (Mexico); alt. C.U.R.P. GOVL721018HMNNLS08 (Mexico) (individual) [SDNTK] (Linked To: LOS CUINIS; Linked To: VALGO GRUPO DE INVERSION S.A. DE C.V.; Linked To: ASESORES TURISTICOS S.A. DE C.V.).

3. SANCHEZ CARLON, Diana Maria, Calle Ricardo Palma 2814, Colonia Prados Providencia, Guadalajara, Jalisco, Mexico; Calle 12 de Diciembre #480, Colonia Chapalita, Zapopan, Jalisco, Mexico; DOB 11 Feb 1979; POB Ahome, Sinaloa, Mexico; R.F.C. SACD-790211-KC2 (Mexico); C.U.R.P. SACD790211MSLNRN04 (Mexico) (individual) [SDNTK] (Linked To: AG & CARLON, S.A. DE C.V.; Linked To: AHOME REAL ESTATE, S.A. DE C.V.; Linked To: GRUPO DIJEMA, S.A. DE C.V.; Linked To: CONSULTORIA INTEGRAL LA FUENTE, SOCIEDAD CIVIL; Linked To: AGRICOLA BOREAL S.P.R. DE R.L.; Linked To: AGRICOLA TAVO S.P.R. DE R.L.; Linked To: DESARROLLO AGRICOLA ORGANICO S.P.R. DE R.L.; Linked To: DESARROLLO AGRICOLA VERDE DE SAYULA S.P.R. DE R.L.; Linked To: STEP LATINAMEDICA S.A. DE C.V.).

4. SANCHEZ CARLON, Silvia Romina, Calle Alberta No. 2166, Fraccionamiento Los Colomos, Guadalajara, Jalisco, Mexico; Av. Balam Kanche Mza. 30, Lote 002, Condominio Playa Car Fase II, Playa del Carmen, Quintana Roo 77710, Mexico; Calle 12 de Diciembre #480, Colonia Chapalita, Zapopan, Jalisco, Mexico; DOB 22 Dec 1986; POB Ahome, Sinaloa, Mexico; R.F.C. SACS-861222-PH0 (Mexico); C.U.R.P. SACS861222MSLNRL04 (Mexico) (individual) [SDNTK] (Linked To: AHOME REAL ESTATE, S.A. DE C.V.; Linked To: CONSULTORIA INTEGRAL LA FUENTE, SOCIEDAD CIVIL; Linked To: INTERCORP LEGOCA, S.A. DE C.V.; Linked To: LA FIRMA MIRANDA, S.A. DE C.V.; Linked To: XAMAN HA CENTER; Linked To: AGRICOLA BOREAL S.P.R. DE R.L.; Linked To: AGRICOLA TAVO S.P.R. DE R.L.; Linked To: DESARROLLO AGRICOLA ORGANICO S.P.R. DE R.L.; Linked To: DESARROLLO AGRICOLA VERDE DE SAYULA S.P.R. DE R.L.).

5. TORRES GONZALEZ, Fernando, Blvd. Puerta de Hierro # 5210, Piso 8-C, Puerta de Hierro, Zapopan, Jalisco 45116, Mexico; Calle Aldama 548, Interior 3, Tepatitlan de Morelos, Jalisco, Mexico; Calle Guadalupe 676, Fraccionamiento Guadalupe, Tepatitlan de Morelos, Jalisco, Mexico; Guayaquil numero 2600, Colonia Providencia, Guadalajara, Jalisco, Mexico; DOB 04 Jul 1970; POB Tepatitlan de Morelos, Jalisco, Mexico; C.U.R.P. TOGF700704HJCRNR06 (Mexico) (individual) [SDNTK] (Linked To: CIRCULO COMERCIAL TOTAL DE PRODUCTOS, S.A. DE C.V.; Linked To: HD COLLECTION, S.A. DE C.V.; Linked To: HOTELITO DESCONOCIDO; Linked To: W&G ARQUITECTOS, S.A. DE C.V.; Linked To: STATUS ADMINISTRATIVO S. DE R.L.).

Entity

1. W&G ARQUITECTOS, S.A. DE C.V. (a.k.a. W AND G ARQUITECTOS, S.A. DE C.V.), 16 de Septiembre No. 21, Col. Manuel Avila Camacho, Naucalpan, Edo. de Mex., Mexico; C. Sao Paulo No. 2435, Providencia, Guadalajara, Jalisco, Mexico; R.F.C. WAR050401H27 (Mexico) [SDNTK].

Dated: April 4, 2016.
Andrea M. Gacki,
Acting Director, Office of Foreign Assets Control.

[FR Doc. 2016-07965 Filed 4-6-16; 8:45 am]

BILLING CODE 4810-AL-P